DEPARTMENT OF THE TREASURY

Submission for OMB Review; Comment Request

October 18, 2012.

The Department of the Treasury will submit the following information collection request to the Office of Management and Budget (OMB) for review and clearance in accordance with the Paperwork Reduction Act of 1995, Public Law 104-13, on or after the date of publication of this notice.

DATES: Comments should be received on or before November 23, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol And Tobacco Tax And Trade Bureau (TTB)

OMB Number: 1513-0004.

Type of Review: Extension without change of a currently approved collection.

Title: Authorization to Furnish Financial Information and Certificate of Compliance.

Abstract: The Right to Financial Privacy Act of 1978 limits access to records held by financial institutions and provides for certain procedures to gain access to the information. TTB F 5030.6 serves as both a customer authorization for TTB to receive information and as the required certification to the financial institution.

Affected Public: Private Sector: Businesses or other for-profits.

Estimated Total Burden Hours: 500.

OMB Number: 1513-0089.

Type of Review: Extension without change of a currently approved collection.

Title: Liquors and Articles from Puerto Rico or the Virgin Islands.

Abstract: The information collection requirements for persons bringing non-beverage products into the United States from Puerto Rico and the Virgin Islands are necessary for the verification of claims for drawback of distilled spirits excise taxes paid on such products.

Affected Public: Private Sector: Businesses or other for-profits.

Estimated Total Burden Hours: 160.

Robert Dahl,
Treasury PRA Clearance Officer.

[FR Doc. 2012-26119 Filed 10-23-12; 8:45 am]

BILLING CODE 4810-31-P